FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Agxit, LLC (NVO), 11080 St. Rt. 729, Jeffersonville, OH 43128, Officers: David A. McElwain, Manager, (Qualifying Individual), David W. Martin, President, Application Type: New NVO License.

Anicam Cargo, Inc. (NVO & OFF), 1770 NW. 96th Avenue, Doral, FL 33172, Officers: Alfredo Gutierrez, Director/CEO, (Qualifying Individual), Angela Gutierrez, Vice President/Acting Secretary, Application Type: New NVO & OFF License.

AOC Freight Corporation dba AOC Limited dba AOC China Limited (NVO), 20910 Normandie Avenue, Suite C, Torrance, CA 90502, Officers: Cindy Yim, President, (Qualifying Individual), Spencer Ho, Director/Vice President/Secretary, Application Type: New NVO License.

Coastar Freight Services, Inc. (NVO), 10370 Slusher Drive, #2, Santa Fe Springs, CA 90670, Officer: Weng C. NG, President/Vice President/CFO/Secretary, (Qualifying Individual), Application Type: New NVO License.

Com Tec LLC (OFF), 327 College Street, Suite 200, Woodland, CA 95695, Officer: Nasrullah Chaudhry, Manager, (Qualifying Individual), Application Type: New OFF License.

Demark Customs Broker (NVO & OFF), 1608 NW. 84th Avenue, Doral, FL 33126, Officers: Ramiro M. Ramirez, Jr., Vice President/Director, (Qualifying Individual), Mirna Ramirez, President/Secretary/Treasurer/Director, Application Type: Add OFF Service.

Direct Express Intermodal, LLC (NVO & OFF), 3399 Peachtree Road, NE., Suite 1130, Atlanta, GA 30326, Officers: James J. Briles, III, COO/Manager, (Qualifying Individual), Chad J. Rosenberg, CEO, Application Type: Add NVO & OFF License.

Florida International Enterprises, Inc. (NVO), 7675 N. 66th Street, Miami, FL 33166, Officers: Rene Hernandez, President, (Qualifying Individual), Ana M. Hernandez, Vice President, Application Type: New NVO License.

Global Forwarding Enterprises Limited Liability Company, dba GlobalForwarding.com dba Forwardingservices.com dba Containerquote.com dba Global Forwarding Enterprises LLC (NVO), 348 Route 9 N, Suite G, Manalapan, NJ 07726, Officers: Rachel Micari, Manager, (Qualifying Individual), Pavel Kapelnikov, General Manager/Member, Application Type: Trade Name Change & QI Change.

HTNS America, Inc. dba UKO Logis, Inc. (NVO & OFF), 17268 S. Main Street, Carson, CA 90248, Officers: Kaehong Park, CFO, (Qualifying Individual), Won S. Jang, President/CEO/Secretary, Application Type: QI Change.

Kiomex, LLC (NVO & OFF), 8435 NW. 72nd Street, Miami, FL 33166, Officers: Irene M. Chizmar, COO, (Qualifying Individual), Christopher A. Jeffery, Owner, Application Type: Name Change.

Ocean Star International, Inc. dba O.S.I. & Cargociti Worldwide Logistics (NVO & OFF), 10880 Wiles Road, Coral Springs, FL 33076, Officer: Joshua S. Morales, President, (Qualifying Individual), Application Type: Trade Name Change.

RLE International, Inc. (NVO & OFF), 1400 NW. 96th Avenue, Suite 106, Miami, FL 33172, Officers: Ricardo A. Mejia, Secretary, (Qualifying Individual), Irina B. Pando, President/Treasurer, Application Type: QI Change.

Sam Philip dba Red Orange North America (NVO & OFF), 7D Jules Lane, New Brunswick, NJ 08901, Officer: Sam Philip, Sole Proprietor, (Qualifying Individual), Application Type: New NVO & OFF License.

The Ultimate Logistics Services, Inc. (NVO & OFF), 3 Birch Place, Pine Brook, NJ 07058, Officer: Michael K. Cheng, President/Secretary/Treasurer, (Qualifying Individual), Application Type: New NVO & OFF License.

Toll Global Forwarding (USA) Inc. (NVO & OFF), 800 Federal Blvd., Carteret, NJ 07008, Officers: J. Myles O'Brien, CEO, (Qualifying Individual), Tracy Wang, CFO/Secretary, Application Type: Add NVO Service.

Trans State Logistics, Inc. (NVO & OFF), 9080 Telstar Avenue, Suite 332, El Monte, CA 91731, Officers: Florence Hau, Secretary, (Qualifying Individual), Cheng K. Shing, Director/CEO/CFO, Application Type: QI Change.

Unicorn Shipping, Inc. (NVO & OFF), 1225 W. 190th Street, Suite 250, Gardena, CA 90248, Officer: Moazam Mahmood, President/Vice President, (Qualifying Individual), Application Type: New NVO & OFF License.

Dated: October 25, 2011.
Karen V. Gregory,
Secretary.

[FR Doc. 2011-28031 Filed 10-28-11; 8:45 am]

BILLING CODE 6730-01-P